DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: March 18-19, 2013.

Place: Conference Room, Coastal and Hydraulics Laboratory Field Research Facility, 1261 Duck Road, Kitty Hawk, NC 27949.

Time:

8:30 a.m. to 4:30 p.m. (March 18, 2013).

8:30 a.m. to 11:30 a.m. (March 19, 2013).

FOR FURTHER INFORMATION CONTACT: Inquiries and notice of intent to attend the meeting may be addressed to COL Kevin J. Wilson, Executive Secretary, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: On Monday, March 18, the Executive Session is devoted to the history of the Coastal and Hydraulics Laboratory (CHL) Field Research Facility (FRF), the science and engineering impact of the FRF, FRF future plans, and tour of the facility. The Board will also address Hurricane Sandy status, including studies, reports, and activities.

On Tuesday morning, March 19, the Board will discuss coastal engineering in the United States, including industry and the CHL goals and plans. The Board will also hear and discuss the CHL Numerical Model strategy, comments from the civilian members on their site visit to CHL, pending action items, and the next annual meeting.

The meeting is open to the public, but since seating capacity of the meeting room is limited and the meeting is located on a government facility, advance notice of intent to attend is required.

William D. Martin,
Director, Coastal and Hydraulics Laboratory, Alternate Designated Federal Officer.

[FR Doc. 2013-04308 Filed 2-25-13; 8:45 am]

BILLING CODE 3720-58-P